DEPARTMENT OF HOMELAND SECURITY

Federal Emergency Management Agency

[Docket ID: FEMA-2023-0014; OMB No. 1660-NW164]

Agency Information Collection Activities: Submission for OMB Review, Comment Request; An Investigation of the Effect of Disaster Response and Recovery on Perceived Stress and Emotional Trauma

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. The submission seeks comments concerning the effect of disasters on the mental health of emergency managers at local, State, and Federal levels.

DATES: Comments must be submitted on or before May 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address: FEMA-Information-Collections-Management@fema.dhs.gov or Megan Corley, Supervisory Psychologist, FEMA Mental Health, at fema-mentalhealth@fema.dhs.gov or (202) 880-7506.

SUPPLEMENTARY INFORMATION: A study to investigate the effect of disaster response and recovery on emergency managers was requested by Congress in the Consolidated Appropriations Act, 2021 (Pub. L. 116-260). 29 CFR part 1960, entitled “Basic Program Elements for Federal Employee Occupational Safety and Health Programs and Related Matters”, contains special provisions to assure safe and healthful working conditions for Federal employees; requiring the head of each Federal agency to maintain an effective and comprehensive occupational safety and health program consistent with Section 6 of the Occupational Safety and Health Administration Act of 1970 (Pub. L. 91-596) (OSHA Act). Furthermore, 5 U.S.C. 7902 requires the head of each agency to develop and support organized safety promotion to reduce accidents and injuries to its employees, encourage safe practices, and eliminate hazards and risks. Under 5 U.S.C. 7902 (e), Agencies must also keep a record of injuries and accidents.

This program was established to improve the mental health of FEMA's, as well as State and local, emergency managers in response to the effects of stress caused by disasters. This data collection is needed to comply with the OSHA Act, 5 U.S.C. 7902 requiring the monitoring, reporting, and mitigation of workplace injuries, and with the request from Congress to undertake this survey.

This proposed information collection previously published in the Federal Register on December 4, 2023, at 88 FR 84161 with a 60-day public comment period. No comments were received. The purpose of this notice is to notify the public that FEMA will submit the information collection abstracted below to the Office of Management and Budget for review and clearance.

Collection of Information

Title: An Investigation of the Effect of Disaster Response and Recovery on Perceived Stress and Emotional Trauma.

Type of Information Collection: New information collection.

OMB Number: 1660-NW164.

FEMA Forms: FEMA Form FF-119-FY-23-100, FEMA Congressional Mental Health Emergency Manager Wellness Study Survey.

Abstract: This information collection supports a study to investigate the effect of disaster response and recovery on emergency managers that was requested by Congress in 2022. This is a voluntary survey that will be collected electronically with approximately 38 questions pertaining to the individuals' experience and demographics, as well as their perceptions of emotional trauma and stress symptoms while supporting a disaster response or recovery. Prior to seeing these questions, participants will see an informed consent screen that outlines the nature of the study, risks, benefits, and Institutional Review Board (IRB) information. Participants may choose to end the survey at any time without questions being asked. Participants are given mental health resources to support them in the event of emotional triggering.

Affected Public: State, local, and Tribal governments.

Estimated Number of Respondents: 378.

Estimated Number of Responses: 378.

Estimated Total Annual Burden Hours: 189.

Estimated Total Annual Respondent Cost: $11,712.

Estimated Respondents' Operation and Maintenance Costs: $0.

Estimated Respondents' Capital and Start-Up Costs: $0.

Estimated Total Annual Cost to the Federal Government: $307,907.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-08095 Filed 4-16-24; 8:45 am]

BILLING CODE 9111-19-P